DEPARTMENT OF HOMELAND SECURITY

Transportation Security Administration

[Docket No. TSA-2007-28572]

Revision of Agency Information Collection Activity Under OMB Review: Secure Flight Program

AGENCY: Transportation Security Administration, DHS.

ACTION: 30-day Notice.

SUMMARY: This notice announces that the Transportation Security Administration (TSA) has forwarded the Information Collection Request (ICR), Office of Management and Budget (OMB) control number 1652-0046, abstracted below to OMB for review and approval of an extension of the currently approved collection under the Paperwork Reduction Act (PRA). The ICR describes the nature of the information collection and its expected burden. TSA published a Federal Register notice, with a 60-day comment period soliciting comments, of the following collection of information on August 3, 2011, 76 FR 46830. The collection involves passenger information which certain U.S. aircraft operators and foreign air carriers submit to Secure Flight for the purposes of watch list matching, identifying information of non-traveling individuals seeking access to commercial establishments beyond the screening checkpoint which airport operators will submit to Secure Flight, and a survey of certain general aviation aircraft operators who may access Secure Flight in the future.

DATES: Send your comments by December 23, 2011. A comment to OMB is most effective if OMB receives it within 30 days of publication.

ADDRESSES: Interested persons are invited to submit written comments on the proposed information collection to the Office of Information and Regulatory Affairs, OMB. Comments should be addressed to Desk Officer, Department of Homeland Security/TSA, and sent via electronic mail to oira_submission@omb.eop.gov or faxed to (202) 395-6974.

FOR FURTHER INFORMATION CONTACT: Joanna Johnson, TSA PRA Officer, Office of Information Technology (OIT), TSA-11, Transportation Security Administration, 601 South 12th Street, Arlington, VA 20598-6011; telephone (571) 227-3651; email TSAPRA@dhs.gov.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who would respond, including using appropriate automated, electronic, mechanical, or other technological collection techniques or other forms of information technology.

Information Collection Requirement

Title: Secure Flight Program.

Type of Request: Revision of a currently approved collection.

OMB Control Number: 1652-0046.

Forms(s): N/A.

Affected Public: Aircraft operators, airport operators.

Abstract: The Transportation Security Administration collects information from covered aircraft operators, including foreign air carriers, in order to perform watch list matching under the Secure Flight Program. The collection covers passenger reservation data for covered domestic and international flights within, to, from, or over the continental United States. The collection also covers the collection from covered aircraft operators of certain identifying information for non-traveling individuals who the aircraft operators seek to authorize to enter a sterile area at a U.S. airport, for example, to escort a minor or a passenger with disabilities or for another approved purpose. The collection also covers passenger data for charter operators and lessors of aircraft with a maximum takeoff weight of over 12,500 pounds. The collection will also cover certain identifying information for non-traveling individuals who airport operators seek to authorize to proceed through the screening checkpoint to access an airport's sterile area in order to utilize commercial establishments beyond the screening checkpoint. The collection will also cover a voluntary survey of certain general aviation aircraft operators who may access Secure Flight in the future.

Number of Respondents: 1,731.

Estimated Annual Burden Hours: An estimated 692,609 hours annually. After further evaluation, TSA has revised the burden estimates that were published in the notice published August 3, 2011.

Issued in Arlington, Virginia, on November 18, 2011.
Joanna Johnson,
TSA Paperwork Reduction Act Officer, Office of Information Technology.

[FR Doc. 2011-30296 Filed 11-22-11; 8:45 am]

BILLING CODE 9110-05-P